ENVIRONMENTAL PROTECTION AGENCY

40 CFR Part 9

[FRL-7803-6]

OMB Approvals Under the Paperwork Reduction Act; Final Rule

AGENCY: Environmental Protection Agency.

ACTION: Final rule.

SUMMARY: In compliance with the Paperwork Reduction Act (PRA), this technical amendment amends the table that lists the Office of Management and Budget (OMB) control numbers issued under the PRA for the Public Water System Supervision Program (PWSS) ICR, OMB Control No. 2040-0090; the Microbial Rules ICR, OMB Control No. 2040-0205; and the Disinfectants/Disinfection Byproducts, Chemical, and Radionuclides (DBP/Chem/Rads) s ICR, OMB Control No 2040-0204. The restructuring by the Environmental Protection Agency's Office of Ground Water and Drinking Water of its existing drinking water program Information Collection Requests (ICR) has resulted in the consolidation of rules and activities into three main drinking water program ICRs.

DATES: This amendment is effective August 20, 2004.

FOR FURTHER INFORMATION CONTACT: Richard Naylor at 202-564-3847.

SUPPLEMENTARY INFORMATION: The Environmental Protection Agency (EPA) is amending the table of currently approved information collection request (ICR) control numbers issued by OMB for various regulations. The amendment updates the table to list those information collection requirements which have been moved due to the restructure and consolidation of the Office of Ground Water and Drinking Water ICRs. An announcement that the PWSS ICR, OMB Control No. 2040-0090; the Microbial ICR, OMB Control No. 2040-0205; and the DBP/Chem/Rads ICR, OMB Control No. 2040-0204 had been forwarded to the Office of Management and Budget (OMB) for review and approval appeared in the Federal Register on October 5, 2001 (66 FR 51031-51035). In addition, EPA is adding entries for the Public Notification rule and for previous omissions that have not been included in the Part 9 table. The affected regulations are codified at 40 CFR parts 141 and 142. EPA will continue to present OMB control numbers in a consolidated table format to be codified in 40 CFR part 9 of the Agency's regulations, and in each Code of Federal Regulations (CFR) volume containing EPA regulations. The table lists CFR citations with reporting, recordkeeping, or other information collection requirements, and the current OMB control numbers. This listing of the OMB control numbers and their subsequent codification in the CFR satisfies the requirements of the Paperwork Reduction Act (44 U.S.C. 3501 et seq.) and OMB's implementing regulations at 5 CFR part 1320.

These ICRs were previously subject to public notice and comment prior to OMB approval. Because the ICRs have already been subject to public notice and comment and because of the ministerial nature of the table, EPA finds that further notice and comment is unnecessary. As a result, EPA finds that there is “good cause” under section 553(b)(B) of the Administrative Procedure Act (APA), 5 U.S.C. 553(b)(B), to amend this table without prior notice and comment. For the same reasons, EPA believes that there is “good cause” to make this rule effective upon publication under section 553(d)(3) of the APA.

I. Administrative Requirements

Under Executive Order 12866 (58 FR 51735, October 4, 1993), this action is not a “significant regulatory action” and is therefore not subject to review by the Office of Management and Budget. In addition, this action does not impose any enforceable duty, contain any unfunded mandate, or impose any significant or unique impact on small governments as described in the Unfunded Mandates Reform Act of 1995 (Pub. L. 104-4). This rule also does not require prior consultation with State, local, and Tribal government officials as specified by Executive Order 12875 (58 FR 58093, October 28, 1993) or Executive Order 13084 (63 FR 27655, May 10, 1998), or involve special consideration of environmental justice related issues as required by Executive Order 12898 (59 FR 7629, February 16, 1994). Because this action is not subject to notice-and-comment requirements under the Administrative Procedure Act or any other statute, it is not subject to the regulatory flexibility provisions of the Regulatory Flexibility Act (5 U.S.C. 601 et seq.). This rule also is not subject to Executive Order 13045 (62 FR 19885, April 23, 1997) because EPA interprets Executive Order 13045 as applying only to those regulatory actions that are based on health or safety risks, such that the analysis required under section 5-501 of the Order has the potential to influence the regulation. This rule is not subject to Executive Order 13045 because it does not establish an environmental standard intended to mitigate health or safety risks.

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a good cause finding that notice and public procedure is impracticable, unnecessary or contrary to the public interest. This determination must be supported by a brief statement. 5 U.S.C. 808(2). As stated previously, EPA has made such a good cause finding, including the reasons therefor, and established an effective date of August 20, 2004. EPA has submitted reports containing these rules and other required information to the U.S. Senate, the U.S. House of Representatives, and the Comptroller General of the United States prior to publication of the rule in the Federal Register. This action is not a “major rule” as defined by 5 U.S.C. 804(2).

List of Subjects in 40 CFR Part 9

Environmental protection, Reporting and recordkeeping requirements.

Dated: August 13, 2004.
Michael Shapiro,
Acting Assistant Administrator, Office of Water.

For the reasons set out in the preamble, 40 CFR part 9 is amended as follows:

PART 9—[AMENDED]

1. The authority citation for part 9 continues to read as follows:

Authority: 7 U.S.C. 135 et seq., 136-136y; 15 U.S.C. 2001, 2003, 2005, 2006, 2601-2671; 21 U.S.C. 331j, 346a, 348; 31 U.S.C. 9701; 33 U.S.C. 1251 et seq., 1311, 1313d, 1314, 1318, 1321, 1326, 1330, 1342, 1344, 1345(d) and (e), 1361; E.O. 11735, 38 FR 21243, 3 CFR, 1971-1975 Comp. p. 973; 42 U.S.C. 241, 242b, 243, 246, 300f, 300g, 300g-1, 300g-2, 300g-3, 300g-4, 300g-5, 300g-6, 300j-1, 300j-2, 300j-3, 300j-4, 300j-9, 1857 et seq., 6901-6992k, 7401-7671q, 7542, 9601-9657, 11023, 11048.

2. Amend the Table in § 9.1 as follows:

a. Under the heading “National Primary Drinking Water Regulations” remove entries “141.80-141.91” and “141.153-141.154” and add in numerical order entries “141.31(d)”, “141.80-141.91” and “141.153-141.154”.

b. Under the heading “National Primary Drinking Water Regulations Implementation” add in numerical order entries “142.14(e)-(g)” and “142.16(a)”.

§ 9.1 OMB approvals under the Paperwork Reduction Act.

* * * * *

40 CFR citation | OMB control No.
* * * * * * *
National Primary Drinking Water Regulations
| * * * * * * *
141.31(d) | 2040-0090
* * * * * * *
141.80-141.91 | 2040-0204
* * * * * * *
141.153-141.154 | 2040-0090
* * * * * * *
National Primary Drinking Water Regulations Implementation
| * * * * * * *
142.14(e)-(g) | 2040-0090
* * * * * * *
142.16(a) | 2040-0090
* * * * * * *

[FR Doc. 04-19137 Filed 8-19-04; 8:45 am]

BILLING CODE 6560-50-P